DEPARTMENT OF AGRICULTURE

Submission for OMB Review; Comment Request

March 12, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Nutrition Service

Title: Forms FNS-806-A, Claim for Reimbursement (National School Lunch and School Breakfast Programs), and FNS-806-B, Claim for Reimbursement (School Milk Program for Children), 7 CFR part 210, part 220, and part 215.

OMB Control Number: 0584-0284.

Summary of Collection: Section 3(a)(10) of the Child Nutrition Act of 1966, as amended, requires that State educational agencies to funds paid to the State during any fiscal year for the purposes of carrying out provisions of the Special Milk Program (SMP) in accordance with agreements approved by the Secretary. Section 4 of the Child Nutrition Act, as amended authorizes payments to the States to assist them to initiate, maintain, or expand nonprofit breakfast programs in schools, namely the School Breakfast Program (SBP). Section 3 of the Richard B. Russell National School Lunch Act (NSLA), as amended, authorizes funds for States to operate the National School Lunch Program. To fulfill the reimbursement requirements set forth in NSLP, SBP, and SMP regulations issued by the Secretary of Agriculture (& CFR 210.8, 215.10 and 220.11), the meal and milk data must be collected on forms FNS-806A and 806B respectively.

Need and Use of the Information: The information is collected electronically from school food authorities that participate in NSLP, School Breakfast Program (SBP), and SMP programs. The forms contain meal and cost data collected from authorized program participants. Also, these forms are essential part of the accounting system used by the subject programs to ensure proper reimbursement. This information is collected monthly because of the constant fluctuation in school enrollment and program participation. Program participants would not receive the monthly reimbursement earned and the Agency would lose program accountability, if this information were collect less frequently.

Description of Respondents: State, Local or Tribal Government.

Number of Respondents: 210.

Frequency of Responses: Reporting: On occasion; Monthly.

Total Burden Hours: 1,260.

Ruth Brown,
Departmental Information Collection Clearance Officer.

[FR Doc. 2013-06092 Filed 3-15-13; 8:45 am]

BILLING CODE 3410-30-P